INTERNATIONAL TRADE COMMISSION

19 CFR Part 210

[Investigation No. MISC-032]

Rules of Adjudication and Enforcement

AGENCY: International Trade Commission.

ACTION: Final rule; correction.

SUMMARY: The United States International Trade Commission (“Commission”) is correcting a final rule that appeared in the Federal Register of October 19, 2011 (76 FR 64803). The final rule concerns the Commission's effort to gather more information on public interest issues arising from complaints filed with the Commission requesting institution of an investigation under Section 337 of the Tariff Act of 1930, as amended, 19 U.S.C. 1337. The intended effect of the final rule is to aid the Commission in identifying investigations that require further development of public interest issues in the record, and to identify and develop information regarding the public interest at each stage of the investigation.

DATES: Effective November 18, 2011.

FOR FURTHER INFORMATION CONTACT: Megan M. Valentine, Office of the General Counsel, United States International Trade Commission, telephone (202) 708-2301. Hearing-impaired individuals are advised that information on this matter can be obtained by contacting the Commission's TDD terminal at (202) 205-1810. General information concerning the Commission may also be obtained by accessing its Internet server at http://www.usitc.gov.

SUPPLEMENTARY INFORMATION: In the final rule appearing on page 64803 in the Federal Register of Wednesday, October 19, 2011, the following correction is made:

§ 210.10 [Corrected]

On page 64809, in the second column, in § 210.10 Institution of investigation, in paragraph (b), “The notice will define the scope of the investigation and may be amended as provided in § 210.14(b) and (b).” is corrected to read “The notice will define the scope of the investigation and may be amended as provided in § 210.14(b) and (c).”

Issued: November 10, 2011.
By order of the Commission.
James R. Holbein,
Secretary to the Commission.

[FR Doc. 2011-29664 Filed 11-16-11; 8:45 am]

BILLING CODE 7020-02-P